Title 3—

The President

Proclamation 8386 of May 26, 2009

National Hurricane Preparedness Week, 2009

By the President of the United States of America

A Proclamation

Each year, hurricanes threaten the safety of American families in coastal and inland communities. These powerful storms can cause heavy rainfall, high winds, tornadoes, and storm surges, which can in turn bring severe flooding, power outages, damage to homes and businesses, and loss of life.

Awareness and preparation are critical to surviving and recovering from hurricanes. During National Hurricane Preparedness Week, I call on all Americans—including private citizens and those working in government, business, and the nonprofit sector—to plan ahead and help secure the safety and property of those who face advancing storms.

Americans can take basic steps before a hurricane arrives. The Federal Emergency Management Agency and the National Hurricane Center recommend developing a family disaster plan, creating and maintaining a disaster supply kit, securing one’s home, and designating a safe place to go during a storm. Throughout a storm, individuals should always remain aware of weather conditions. More information on precautionary measures is available at www.nhc.noaa.gov/HAW2/english/intro.shtml.

Organizations at the local, State, and national level play important roles to protect Americans from the effects of hurricanes. Rescue and relief organizations, the private sector, and the news media work to meet demands that emerge before, during, and after a hurricane. Among other services, they distribute safety information and help coordinate relief activities. My Administration is committed to strengthening these efforts and is working every day to prepare for hurricanes and their potential impacts on everyone in the United States.

The threat hurricanes pose to lives and property cannot be eliminated, but preparedness can reduce the dangers these storms pose for our families and communities.

NOW, THEREFORE, I, BARACK OBAMA, President of the United States of America, by virtue of the authority vested in me by the Constitution and laws of the United States do hereby proclaim May 24 through May 30, 2009, as National Hurricane Preparedness Week. I call upon government agencies, private organizations, media, community groups, schools, and residents of hurricane-prone areas to share information about hurricane preparedness and response to help protect communities and save lives.

IN WITNESS WHEREOF, I have hereunto set my hand this twenty-sixth day of May, in the year of our Lord two thousand nine, and of the Independence of the United States of America the two hundred and thirty-third.

[FR Doc. E9-12648

Filed 5-28-09; 8:45 am]

Billing code 3195-W9-P